DEPARTMENT OF AGRICULTURE

Animal and Plant Health Inspection Service

[Docket No. APHIS-2013-0031]

Environmental Impact Statement; Feral Swine Damage Management

AGENCY: Animal and Plant Health Inspection Service, USDA.

ACTION: Notice of intent to prepare an environmental impact statement and notice of public meeting.

SUMMARY: We are advising the public that the Animal and Plant Health Inspection Service plans to prepare an environmental impact statement (EIS) to address the need for a national feral swine damage management program to protect agriculture, natural resources, property, and human health and safety. This notice identifies potential issues and alternatives that will be studied in the EIS, requests public comments to further delineate the scope of the alternatives and environmental impacts and issues, and provides notice of public meeting.

DATES: We will consider all comments that we receive on or before June 12, 2013. We will also consider comments received at a public meeting to be held on May 23, 2013, from 1 p.m. to 5 p.m.

ADDRESSES: The meeting will be held at the USDA Center at Riverside, Oklahoma City Memorial Conference Center, 4700 River Road, Riverdale, MD 20737.

You may submit comments by any of the following methods:

• Federal eRulemaking Portal: Go to http://www.regulations.gov/#!documentDetail;D=APHIS-2013-0031-0002.

• Postal Mail/Commercial Delivery: Please send your comment to Project Managers, Feral Swine EIS, USDA APHIS-WS, 732 Lois Drive, Sun Prairie, WI 53590.

• At the public meeting in person at the USDA Center at Riverside, Oklahoma City Memorial Conference Center, 4700 River Road, Riverdale, MD 20737.

• By visiting http://www.aphis.usda.gov/wildlife_damage/feral_swine/index.shtml for details on how to access the public meeting via the Internet and to submit comments.

Supporting documents and any comments we receive on this notice may be viewed at http://www.regulations.gov/#!docketDetail;D=APHIS-2013-0031 or in our reading room, which is located in room 1141 of the USDA South Building, 14th Street and Independence Avenue SW., Washington, DC. Normal reading room hours are 8 a.m. to 4:30 p.m., Monday through Friday, except holidays. To be sure someone is there to help you, please call (202) 799-7039 before coming.

Additional information about feral swine may be viewed by visiting the APHIS feral swine Web page at: http://www.aphis.usda.gov/wildlife_damage/feral_swine/index.shtml.

FOR FURTHER INFORMATION CONTACT: Dr. Kimberly Wagner, Staff Wildlife Biologist, Wildlife Services, APHIS, 732 Lois Drive, Sun Prairie, WI 53590; (608) 837-2727.

SUPPLEMENTARY INFORMATION:

Background

Feral swine are a harmful and destructive invasive species. Their geographic range is rapidly expanding and their populations are increasing exponentially across the United States. Feral swine also occur in Guam, Puerto Rico, U.S. Virgin Islands, the Northern Mariana Islands, and American Samoa. Feral swine can inflict significant damage to numerous resources including physical damage to crops and property; predation on livestock; disease transmission threats to livestock, humans, and wildlife; and other threats to human health and safety. Feral swine also damage natural resources including sensitive habitats and endangered species. The Tribes, States, and Territories have legal authority to manage feral swine. Executive Order 13112 directs Federal agencies to use their programs and authorities to prevent the introduction of invasive species, control populations of invasive species, and minimize the economic or environmental harm, or harm to human health caused by invasive species. The Animal Plant Health Inspection Service (APHIS) has been receiving increased numbers of requests from local governments and private entities to assist with feral swine damage management.

APHIS-Wildlife Services (APHIS-WS) has issued a number of local environmental assessments (EAs) for proposed actions that incorporated legally available methods to manage feral swine damage. These methods currently include technical assistance in which APHIS-WS provides information and recommendations on how to minimize feral swine damage to the requesting public and resource management agencies, and direct control services in which APHIS-WS uses one or more methods such as live corral and cage traps, snares, dogs, and aerial and ground shooting to remove feral swine. APHIS-WS EAs, which include feral swine damage management, are available on the APHIS-WS Web site at http://www.aphis.usda.gov/regulations/ws/ws_nepa_environmental_documents.shtml#EAs.

Current efforts to manage problems associated with feral swine damage have helped to alleviate localized damage, but the overall feral swine population and associated damage and disease threats have continued to expand at a much faster rate than local governments and APHIS have been able to address them. We believe that a national, coordinated effort would more effectively address the growing problems associated with feral swine and would result in more efficient delivery of damage management programs to Tribes, States, Territories, individuals, and organizations that request assistance.

The APHIS-WS program is authorized by the Animal Damage Control Act (7 U.S.C. 426) to work with other Federal agencies, Tribes, States, Territories, local governments, and private individuals and organizations to protect American resources from damage associated with wildlife. The APHIS-Veterinary Services (VS) program will be participating in the development of the environmental impact statement (EIS). The APHIS-VS program works in a variety of ways to protect and improve the health, quality, and marketability of U.S. animals, animal products, and veterinary biologics by preventing, controlling, and/or eliminating animal diseases and monitoring and promoting animal health and productivity. The authority for the mission of VS is found in the Animal Health Protection Act (7 U.S.C. 8301 et seq.).

Under the provisions of the National Environmental Policy Act of 1969 (NEPA), as amended (42 U.S.C. 4321 et seq.), Federal agencies must examine the potential environmental impacts of proposed Federal actions before actions are taken. In accordance with NEPA, the regulations of the Council on Environmental Quality (CEQ) for implementing the procedural provisions of NEPA (40 CFR parts 1500-1508), U.S. Department of Agriculture (USDA) regulations implementing NEPA (7 CFR part 1b), and APHIS' NEPA Implementing Procedures (7 CFR part 372), APHIS has decided to prepare an EIS to review potential alternatives for a national feral swine management strategy. APHIS will be the lead Federal agency in the development of the EIS in cooperation with other Federal, State, and Tribal entities that have jurisdiction by law and expertise and share a common interest in reducing or eliminating problems caused by feral swine.

Several Federal agencies and national organizations have been invited to formally cooperate in the development of the EIS. States and Territories will also be contacted for input and all federally recognized Tribes will be provided an opportunity for consultation and participation. By preparing an EIS at this time, APHIS may provide other Federal agencies with an opportunity to adopt all or part of the EIS for future actions in accordance with the adoption provisions of the CEQ's NEPA implementing regulations (40 CFR 1506.3).

Proposed Action

APHIS is proposing to implement a nationally coordinated swine damage management program in cooperation with Tribes, agencies, and organizations at the State level to accommodate varying local laws and management objectives for feral swine. Program activities would be implemented in all or most States and Territories where feral swine occur. In States where feral swine are an infrequent occurrence or populations are low, APHIS proposes to cooperate with local and State agencies and Tribes to implement strategies to eliminate feral swine. In areas with established or high swine populations, APHIS would work with Tribes, and State and local agencies and organizations to meet local management objectives, which may include reducing statewide populations or eliminating swine from specific locations. The proposed action would incorporate an integrated approach to feral swine damage management issues using the latest scientific research findings, improvements in management methods and new techniques, and communication and outreach tools to manage feral swine conflicts. Methods that would be evaluated for potential use and/or recommendation by APHIS may include, but are not limited to, fencing, frightening devices, cage traps, corral traps, drop nets, telemetry to locate pigs, hunting with dogs, shooting from ground or from aircraft, the toxicant sodium nitrite, and public hunting.

Scoping

We are requesting public comments to further delineate the scope of alternatives and environmental impacts and issues to be addressed in the analysis. We will be hosting a public meeting to discuss the scope of the EIS on May 23, 2013 (see DATES and ADDRESSES above). We are particularly interested in receiving comments regarding biological, cultural, or ecological issues that should be addressed in the analysis (see “Environmental Issues for Consideration” below), and we encourage the submission of scientific data, studies, or research to support your comments.

Alternatives

The EIS will consider a range of reasonable alternatives that will include the proposed action described above and a “no action” alternative, which can be defined as a continuation of current ongoing management practices (40 CFR 1502.14(d)). Under the no action alternative, current APHIS feral swine damage management actions, as conducted in a number of States, would continue without expansion and national coordination. We welcome additional recommendations for management strategies to be addressed in the EIS.

Environmental Issues for Consideration

We have also identified the following potential environmental issues for consideration in the EIS:

• Potential effects on feral swine populations.

• Potential direct or indirect impacts on protected and sensitive species and on non-target animals.

• Potential environmental effects of carcass disposal methods.

• Potential direct or indirect effects on tribal resources and values.

• Potential direct or indirect effects on hunters and others who benefit from feral swine.

• Potential direct or indirect economic effects.

• Potential effects on social values such as ethical perspectives and humaneness.

In considering reasonable alternatives, the EIS will study the effects of the project on these environmental issues. While the environmental issues evaluated at the local level have not been significant, a decision to implement the proposed action would expand the current program capabilities to a national scale and encourage additional national and local level partnerships to address feral swine conflicts. Comments that identify other issues or alternatives that should be considered in the EIS would be extremely helpful.

After the comment period closes, APHIS will review and consider all comments received during the comment period and any other relevant information in the development of the EIS. All comments received will be available for public review. Upon completion of the draft EIS, a notice announcing its availability and an opportunity to comment will be published in the Federal Register.

Parking and Security Procedures for the Public Meeting

Persons attending the May 23, 2013, meeting in Riverdale, MD, are required to register in advance at http://www.aphis.usda.gov/wildlife_damage/feral_swine/index.shtml or by contacting the person listed under FOR FURTHER INFORMATION CONTACT.

Travel directions to the USDA Center at Riverside are available on the Internet at http://www.aphis.usda.gov/plant_health/general_info/directions_riverdale.shtml. Please note that a fee of $5 is required to enter the parking lot at the USDA Center at Riverside. The machine accepts bills and coins as well as credit and debit transactions. You must display your daily parking receipt and have it visible in your vehicle for parking attendants to recognize. Upon entering the building, visitors should inform security personnel that they are attending the feral swine damage management public meeting. Photo identification is required to gain access to the building, and all bags will be screened.

For individuals who are unable to attend the meeting in person, it will be streamed on the Internet as a live Webcast. Information about how to join the live Webcast and conference line will be made available at http://www.aphis.usda.gov/wildlife_damage/feral_swine/index.shtml. We recommend that you connect at least 5 minutes prior to the start of the meeting.

Done in Washington, DC, this 8th day of May 2013.
Kevin Shea,
Acting Administrator, Animal and Plant Health Inspection Service.

[FR Doc. 2013-11271 Filed 5-10-13; 8:45 am]

BILLING CODE 3410-34-P